SURFACE TRANSPORTATION BOARD

[Docket No. FD 36604]

Georgia Central Railway, L.P.—Lease and Operation Exemption—City of Vidalia, Ga.

Georgia Central Railway, L.P. (GC), a Class III railroad, has filed a verified notice of exemption under 49 CFR 1150.41 to replace a lease between GC and the City of Vidalia (the City) for GC to lease and operate as a common carrier over approximately 2.6 miles of track owned by the City beginning at milepost 152.2 and extending to milepost 149.6 (the Line).

According to the verified notice, GC has been the sole operator providing local service on the Line since at least 1997. GC states that the lease agreement (New Lease) supersedes and replaces the current lease, and GC will continue to lease and operate as the sole common carrier on the Line.

GC certifies that the New Lease does not include an interchange commitment. It also certifies that its projected annual revenues from this transaction will not exceed those that would qualify it as a Class III carrier, but that its revenues currently exceed $5 million. Pursuant to 49 CFR 1150.42(e), if a carrier's projected annual revenues will exceed $5 million, it must, at least 60 days before the exemption is to become effective, post a notice of its intent to undertake the proposed transaction at the workplace of the employees on the affected lines, serve a copy of the notice on the national offices of the labor unions with employees on the affected lines, and certify to the Board that it has done so. However, GC's verified notice includes a request for waiver of the 60-day advance labor notice requirements. GC's waiver request will be addressed in a subsequent decision. The Board will establish the effective date of the exemption in its separate decision on the waiver request.

If the verified notice contains false or misleading information, the exemption is void ab initio. Petitions to revoke the exemption under 49 U.S.C. 10502(d) may be filed at any time. The filing of a petition to revoke will not automatically stay the effectiveness of the exemption. Petitions for stay must be filed no later than May 18, 2022.

All pleadings, referring to Docket No. FD 36604, must be filed with the Surface Transportation Board either via e-filing on the Board's website or in writing addressed to 395 E Street SW, Washington, DC 20423-0001. In addition, a copy of each pleading must be served on GC's representative, Justin J. Marks, Clark Hill PLC, 1001 Pennsylvania Avenue NW, Suite 1300 South, Washington, DC 20004.

According to GC, this action is categorically excluded from environmental review under 49 CFR 1105.6(c) and from historic preservation reporting requirements under 49 CFR 1105.8(b).

Board decisions and notices are available at www.stb.gov.

Decided: May 6, 2022.
By the Board, Valerie O. Quinn, Acting Director, Office of Proceedings.
Brendetta Jones,
Clearance Clerk.

[FR Doc. 2022-10110 Filed 5-10-22; 8:45 am]

BILLING CODE 4915-01-P